DEPARTMENT OF DEFENSE

Department of the Army; Corps of Engineers

Notice of Intent to Grant Partially Exclusive License of the United States Patent Application No. 12/365,698, “Reusable Sample Holding Device Permitting Ready Loading of Very Small Wet Samples,” Filed Feb 4, 2009

AGENCY: Department of the Army, U.S. Army Corps of Engineers, DOD.

ACTION: Notice of intent.

SUMMARY: In accordance with 37 CFR 404.7(a) (1) (i), announcement is made of a prospective partially exclusive license of the following U.S. Patent Application 12/365,698 Filed February 04, 2009 (published on Aug. 5, 2010 with Pub. No. US 2010/0193398 A1) to Hummingbird Scientific, Inc for achieving commercial sales of a reusable sample holding device permitting ready loading of very small wet samples for use with high resolution imaging systems of various types, to include those requiring a vacuum environment.

DATES: Written objections must be filed not later than 15 days following publication of this announcement.

ADDRESSES: United States Army Engineer Research and Development Center, Attn: CEERD-OT (Ms. Bea Shahin), 2902 Newmark Drive, Champaign, IL 6182-1076.

FOR FURTHER INFORMATION CONTACT: Ms. Bea Shahin (217) 373-7234, FAX (217) 373-7210, e-mail: Bea.S.Shahin@usace.army.mil.

SUPPLEMENTARY INFORMATION: This patent application claims a reusable sample-holding device for readily loading very small wet samples for observation of the samples by microscopic equipment, in particular in a vacuum environment. Embodiments may be used with a scanning electron microscope (SEM), a transmission electron microscope (TEM), an X-ray microscope, optical microscope, and the like. For observation of the sample, embodiments provide a thin-membrane window etched in the center of each of two silicon wafers abutting to contain the sample in a small uniform gap formed between the windows. This gap may be adjusted by employing spacers. Alternatively, the thickness of a film established by the fluid in which the sample is incorporated determines the gap without need of a spacer. To optimize resolution each window may have a thickness on the order of 50 nm and the gap may be on the order of 50 nm.

Dated: June 14, 2011.
David B. Olson,
Federal Register Liaison Officer, U.S. Army Corps of Engineers.

[FR Doc. 2011-15084 Filed 6-16-11; 8:45 am]

BILLING CODE 3720-58-P